COMMODITY FUTURES TRADING COMMISSION

Agency Information Collection Activities: Notice of Intent To Renew Collection 3038-0033, Notification of Pending Legal Proceedings

AGENCY: Commodity Futures Trading Commission.

ACTION: Notice.

SUMMARY: The Commodity Futures Trading Commission (“CFTC” or “Commission”) is announcing an opportunity for public comments on the proposed extension of a collection of certain information by the agency. Under the Paperwork Reduction Act (“PRA”), Federal agencies are required to publish notice in the Federal Register concerning each proposed collection of information, including each proposed extension of an existing collection of information, and to allow 60 days for public comment. This notice solicits comments on the information collection requirements concerning notification of pending legal proceedings.

DATES: Comments must be submitted on or before October 22, 2021.

ADDRESSES: You may submit comments, identified by OMB Control No. 3038-0033 by any of the following methods:

• The Agency's website, at http://comments.cftc.gov/. Follow the instructions for submitting comments through the website.

• Mail: Christopher Kirkpatrick, Secretary of the Commission, Commodity Futures Trading Commission, Three Lafayette Centre, 1155 21st Street NW, Washington, DC 20581.

• Delivery/Courier: Same as Mail above.

Please submit your comments using only one method. All comments must be submitted in English, or if not, accompanied by an English translation. Comments will be posted as received to http://www.cftc.gov.

FOR FURTHER INFORMATION CONTACT: Melissa Chiang, Senior Assistant General Counsel, Office of the General Counsel, Commodity Futures Trading Commission, (202) 418-5578; email: mchiang@cftc.gov.

SUPPLEMENTARY INFORMATION: Under the PRA, 44 U.S.C. 3501 et seq., Federal agencies must obtain approval from the Office of Management and Budget (OMB) for each collection of information that they conduct or sponsor. “Collection of Information” is defined in 44 U.S.C. 3502(3) and 5 CFR 1320.3(c) and includes agency requests or requirements that members of the public submit reports, keep records, or provide information to a third party. Section 3506(c)(2)(A) of the PRA, 44 U.S.C. 3506(c)(2)(A), requires Federal agencies to provide a 60-day notice in the Federal Register concerning each proposed collection of information, including each proposed extension of an existing collection of information, before submitting the collection to OMB for approval. An agency may not conduct or sponsor, and a person is not required to respond to, a collection of information unless it displays a valid OMB control number. To comply with this requirement, the CFTC is publishing notice of the proposed extension of an existing collection of information listed below.

Title: Notification of Pending Legal Proceedings Pursuant to 17 CFR 1.60 (OMB Control Number 3038-0033). This is a request for extension of a currently approved information collection.

Abstract: The rule is designed to assist the Commission in monitoring legal proceedings involving the responsibilities imposed on designated contract markets (DCMs) and their officials and futures commission merchants (FCMs) and their principals by the Commodity Exchange Act, and is applicable to swap execution facilities (SEFs) through 17 CFR 37.2. This renewal updates the total requested burden based on available reported data.

With respect to the following collection of information, the CFTC invites comments on:

• Whether the proposed collection of information is necessary for the proper performance of the functions of the Commission, including whether the information will have a practical use;

• The accuracy of the Commission's estimate of the burden of the proposed collection of information, including the validity of the methodology and assumptions used;

• Ways to enhance the quality, usefulness, and clarity of the information to be collected; and

• Ways to minimize the burden of collection of information on those who are to respond, including through the use of appropriate automated electronic, mechanical, or other technological collection techniques or other forms of information technology; e.g., permitting electronic submission of responses.

You should submit only information that you wish to make available publicly. If you wish the Commission to consider information that you believe is exempt from disclosure under the Freedom of Information Act, a petition for confidential treatment of the exempt information may be submitted according to the procedures established in § 145.9 of the Commission's regulations.¹

¹ 17 CFR 145.9.

The Commission reserves the right, but shall have no obligation, to review, pre-screen, filter, redact, refuse or remove any or all of your submission from http://www.cftc.gov that it may deem to be inappropriate for publication, such as obscene language. All submissions that have been redacted or removed that contain comments on the merits of the Information Collection Request will be retained in the public comment file and will be considered as required under the Administrative Procedures Act and other applicable laws, and may be accessible under the Freedom of Information Act.

Burden Statement: The annual respondent burden for this collection during the renewal period is estimated to be as follows:

Estimated Number of Annual Respondents: 97.

Estimated Average Annual Burden Hours per Respondent: .25.

Estimated Total Annual Burden Hours: 24.25.

Frequency of Collection: As needed.

There are no capital costs or operating costs or maintenance costs associated with this collection.

(Authority: 44 U.S.C. 3501 et seq.)

Dated: August 18, 2021.
Robert Sidman,
Deputy Secretary of the Commission.

[FR Doc. 2021-18079 Filed 8-20-21; 8:45 am]

BILLING CODE 6351-01-P